NEIGHBORHOOD REINVESTMENT CORPORATION

Regular Board of Directors Meeting

Time & Date: 2 p.m. Tuesday, September 10, 2002.

Place: Neighborhood Reinvestment Corporation, 1325 G Street, NW., Suite 800, Washington, DC 20005.

Status: Open.

Contact Person for More Information: Jeffrey T. Bryson, General Counsel/Secretary, 202-220-2372.

Agenda:

I. Call to Order

II. Approval of Minutes: May 20, 2002, Annual Meeting

IX. Personnel Committee Report 7/11/02

X. Audit Committee Report 7/11/02

XI. Budget Committee Report 7/20/02

XII. Treasurer's Report

XIII. Executive Director's Report

VII-A. Campaign for Homeownership Update

XIV. Adjournment

Jeffrey T. Bryson,
General Counsel/Secretary.

[FR Doc. 02-22662 Filed 8-30-02; 4:11 pm]

BILLING CODE 7570-01-M